DEPARTMENT OF THE INTERIOR

Bureau of Land Management

[LLID9570000.LL14200000.BJ0000]

IDAHO: Filing of Plats of Survey

AGENCY: Bureau of Land Management, Interior.

ACTION: Notice of filing of plats of surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The plat representing the dependent resurvey and metes and bounds survey of a portion of the subdivision of section 6, T. 7 N., R. 23 E., of the Boise Meridian, Idaho, Group Number 1343, was accepted April 17, 2012.

The plat representing the dependent resurvey of a portion of the subdivisional lines, and the subdivision of section 28, T. 4 S., R. 14 E., of the Boise Meridian, Idaho, Group Number 1370, was accepted May 9, 2012.

These surveys were executed at the request of the Bureau of Indian Affairs to meet their administrative needs. The lands surveyed are:

The supplemental plat was prepared to show amended lottings in sec. 6, T. 44 N., R. 5 W., Boise Meridian, Idaho Group Number 1372, was accepted April 19, 2012.

The plat representing the dependent resurvey of portions of the subdivisional lines and subdivision of sections 27 and 28, and subdivision of sections 8 and 15, and the further subdivision of sections 27 and 28, T. 36 N., R. 4 W., of the Boise Meridian, Idaho, Group Number 1338, was accepted May 15, 2012.

The plat representing the dependent resurvey of a portion of the east boundary, T. 33 N., R. 4 W., of the Boise Meridian, Idaho, Group Number 1328, was accepted

May 23, 2012.

The plat representing the dependent resurvey of portions of the west and south boundaries, and subdivisional lines, T. 34 N., R. 3 W., of the Boise Meridian, Idaho, Group Number 1328, was accepted May 23, 2012.

This survey was executed at the request of the U.S.D.A. Forest Service to meet their administrative needs. The lands surveyed are:

The plat representing the dependent resurvey of a portion of the west and south boundaries and survey of the subdivisional lines of sections 30 and 31, and the subdivision of section 30, T. 29 N., R. 9 E., of the Boise Meridian, Idaho, Group Number 1324, was accepted May 25, 2012.

The plat representing the dependent resurvey of a portion of the Sixth Standard Parallel North (north boundary) and east boundary, and a portion of the subdivisional lines of T. 29 N., R. 7 E., of the Boise Meridian, Idaho, Group Number 1324, was accepted May 25, 2012.

Dated: July 9, 2012.
Stanley G. French,
Chief Cadastral Surveyor for Idaho.

[FR Doc. 2012-17760 Filed 7-19-12; 8:45 am]

BILLING CODE 4310-GG-P